DEPARTMENT OF THE INTERIOR

Bureau of Land Management

[NV-025-1232-EA-NV06; Special Recreation Permit # NV-023-02-11]

Notice of Temporary Closure to Public Lands; Pershing County and Washoe County, NV

AGENCY: Bureau of Land Management, Winnemucca Field Office, Nevada, Interior.

ACTION: Notice to the public of temporary public lands closures and prohibition of certain activities on public lands administered by the Bureau of Land Management, Winnemucca Field Office, Nevada.

SUMMARY: Notice is hereby given that certain lands will be temporarily closed or restricted, and certain activities would be temporarily prohibited, in and around the Burning Man event site, Pershing and Washoe counties, Nevada, for camping, vehicle use, fire use, and aircraft landing from 0600 hours, August 23, 2002, to 2200 hours, September 2, 2002. Certain lands will be temporarily closed or restricted, and certain activities will be temporarily prohibited, in the Winnemucca District in Pershing and Washoe Counties, Nevada, for fireworks use and firearms use from 0600 hours, August 12, 2002, to 2200 hours, September 16, 2002. These closures, restrictions and prohibitions are being made in the interest of public safety at and around the public lands location of an event known as the Burning Man Festival. This event is expected to attract approximately 28,000 participants this year. The lands involved are located in the Mount Diablo Meridian and located northeast of Gerlach, Nevada.

Public Camping Within One Mile of the Fence is Prohibited in the Following Areas: T. 33 N., R. 24 E, Sec. 1: W½; Sec. 2; Sec. 3; Sec. 4; Sec. 9; Sec. 10; Sec. 11; Sec. 12: W½ ; Sec. 15: N½ of the NW¼; Sec. 16: N½ and T. 33½ N., R. 24 E., Sec. 33; Sec. 34; Sec. 35; Sec. 36: W½ . These areas are closed during the event period, August 23, 2002 to September 2, 2002, with the exception of defined camping areas designated and provided by the Black Rock City LLC, an authorized “pilot camp” and BLM-authorized event management-related camps.

Operation of Motorized Vehicles, within One Mile of the Fence, at Such a Rate of Speed that it Causes a Dust Plume higher than the Roof of the Vehicle, is Prohibited in the Following Areas: T. 33 N., R. 24 E, Sec. 1: W½ ; Sec. 2; Sec. 3; Sec. 4; Sec. 9; Sec. 10; Sec. 11; Sec. 12: W½ ; Sec. 15: N½ of the NW¼; Sec. 16: N½ and T. 33½ N., R. 24 E., Sec. 33; Sec. 34; Sec. 35; Sec. 36: W½ . These areas are closed during the event period, August 23, 2002 to September 2, 2002, with the exception of BLM, medical, law enforcement, firefighting vehicles and Burning Man staff as designated by the BLM Authorized Officer.

Operation of Motorized Vehicles Is Prohibited on the Following Public Lands: T. 33 N., R. 24 E., Sec. 2, Sec. 3, Sec. 4, Sec. 9, Sec. 10, Sec. 11 and T. 33½ N., R. 24 E, Sec. 33; Sec. 34; Sec. 35. These areas within the event boundary are closed during the Burning Man event, from August 23, 2002 to September 2, 2002, with the following exceptions: participant arrival at the event and departure following event completion on designated routes, art vehicles registered with Burning Man; Black Rock City LLC staff and support, BLM, medical, law enforcement, firefighting vehicles and motorized skateboards with/without handlebars. “Art Cars” must register with Burning Man/Black Rock City LLC and must provide evidence of registration at all times.

The Following Public Lands are Closed to Public Use: T. 33 N., R. 24 E., Sec. 4: NE¼, S½; Sec. 5: SE¼; Sec 8: NE¼, S½ ; Sec. 9; Sec. 10: W½; Sec. 15: N½ of the NW¼; Sec 16: N½ and T33½ N, R24E, Sec. 33: SE¼; Sec. 34: SW¼. For event safety near the entrance road and airstrip, playa areas southwest, west and northwest of the event are closed during the Burning Man event period, from 0001 hours August 26, 2002 to 2200 hours September 2, 2002, with the exception of BLM personnel, law enforcement, emergency medical services, Burning Man staff as designated by the BLM authorized officer.

Black Rock City LLC/Burning Man will abide by fire restriction orders, except for the following as officially approved by Black Rock City LLC in coordination with BLM: Official art burns, authorized event fireworks, and other authorized fires only in Black Rock City LLC/Burning Man-supplied fire barrels and approved platforms. Fire Restriction Orders may be in effect pursuant to 43 CFR 9212.2, 36 CFR 261.50(a)(b) for all lands managed by the BLM, Winnemucca Field Office.

The use, sale or possession of personal fireworks within the Burning Man Event/Black Rock City boundary fence is prohibited on the following public lands from August 26, 2002, through September 2, 2002: T. 33 N., R. 24 E., Sec. 2; Sec. 3; Sec. 4; Sec. 9; Sec. 10; Sec. 11 and T. 33½ N., R. 24 E., Sec. 33; Sec. 34; Sec. 35, with the exception of those fireworks that have been approved by Black Rock City LLC as part of an official Burning Man art burn event.

Possession of Firearms Is Prohibited on the Following Public Lands from August 12, 2002, through September 16, 2002: T. 33 N., R. 24 E., Sec. 2; Sec. 3; Sec. 4; Sec. 9; Sec. 10; Sec. 11 and T. 33½ N., R. 24 E., Sec. 33; Sec. 34; Sec. 35. This closure is in effect inside the Burning Man event/Black Rock City boundary fence, with the exception of county, state and federal certified law enforcement personnel under the color of law. “Firearm” means any device designed to be used as a weapon from which a projectile may be expelled through the barrel by the force of any explosion or other form of combustion (Nevada Revised Statute 202.253).

Discharge of Firearms is Prohibited on the Following Public Lands from August 12, 2002, through September 16, 2002: T. 33 N., R. 24 E., Sec. 1; Sec. 2; Sec. 3; Sec. 4; Sec. 5; Sec 6: E½; Sec 8; Sec. 9; Sec. 10; Sec. 11; Sec. 12; Sec. 13: N½; SW¼; Sec. 14; Sec. 15; Sec. 16; Sec. 17: E½, NW¼; Sec. 21: NE¼; Sec. 22: N½, Sec. 23: NW¼ and T. 33 N., R. 25 E., Sec. 4; Sec. 9: W½ , NW¼ of the NE¼ and T. 33½ N., R. 24 E., Sec. 25; Sec. 26; Sec. 27; Sec. 28; Sec. 29; Sec. 32; Sec. 33; Sec. 34; Sec. 35; Sec. 36; T. 34 N., R. 24 E., Sec. 33: NE¼, S½; Sec. 34; Sec. 35; Sec. 36: S½; T. 34 N., R. 25 E., Sec. 33. This closure description applies for two miles in all directions from the event boundary, with the exception of law enforcement officers under color of law.

Aircraft are prohibited from landing, taking off, and taxiing on the following public lands from 0600 hours on August 26, 2002, through September 2, 2002 at 2200 hours: T. 33 N., R. 23 E., Sec. 25: E½; T. 33 N., R. 24 E., Sec. 1; Sec. 2; Sec. 3; Sec. 4; Sec. 5: SE¼; Sec. 8: NE¼, S½; Sec. 9; Sec. 10; Sec. 11; Sec.12; Sec. 13: W½;. Sec. 14; Sec. 15; Sec. 16; Sec. 17; Sec. 18: NE¼, S½; Sec 19; Sec. 20; Sec. 21; Sec. 22: N½; Sec. 28: NW¼; Sec. 29; Sec. 30: NE¼ and T. 33 N., R. 25 E., Sec. 2: N½; Sec. 3: N½; Sec. 4 and T33½N, R24E, Sec. 25; Sec. 26; Sec. 27; Sec. 28; Sec. 33; Sec. 34; Sec. 35; Sec. 36 and T34N, R24E, Sec. 23: NE¼, S½; Sec. 24; Sec. 25; Sec. 26; Sec. 27: SE¼; Sec. 33: E½; Sec. 34; Sec. 35: Sec. 36 and T. 34 N., R. 25 E., Sec. 16; Sec. 21; Sec. 22: S½; Sec 26: SW¼; Sec 27; Sec. 28; Sec. 33; Sec. 34; Sec. 35. This closure description applies to the playa for five miles in all directions from the event boundary during the event, with the exception of an authorized Burning Man event landing strip for Burning Man staff and participants, law enforcement and emergency medical services. This airstrip is the only location Burning Man-related aircraft may land, with the exception of emergency aircraft such as Care Flight, Sheriff's Office or Medical Ambulance Transport System helicopters.

A map showing these temporary closures, restrictions and prohibitions is available from the following BLM office: BLM-Winnemucca Field Office, 5100 East Winnemucca Blvd., Winnemucca, Nevada 89445.

The map may also be viewed on the Field Office website at: www.nv.blm.gov/winnemucca.

DATES: Closure to Possesion and Discharge of Firearms August 12, 2002, to September 16, 2002; Closure to Camping, Vehicle Use and Aircraft Landing August 23, 2002 to September 2, 2002; and Closure to Possession of Fireworks and Public Use August 26, 2002 to September 2, 2002.

FOR FURTHER INFORMATION CONTACT: Dave Cooper, National Conservation Area Manager, Bureau of Land Management, Winnemucca Field Office, 5100 E. Winnemucca Blvd., Winnemucca, NV 89445, telephone: (775) 623-1500.

Authority: 43 CFR 8364.1

Penalty: Any person failing to comply with the closure orders may be subject to imprisonment for not more than 12 months, or a fine in accordance with the applicable provisions of 18 U.S.C. 3571, or both.

Terry Reed,
Field Office Manager.

[FR Doc. 02-17975 Filed 7-18-02; 8:45 am]

BILLING CODE 4310-HC-P